DEPARTMENT OF AGRICULTURE

Animal and Plant Health Inspection Service

7 CFR Part 301

[Docket No. 04-038-2]

Karnal Bunt; Regulated Areas

AGENCY: Animal and Plant Health Inspection Service, USDA.

ACTION: Affirmation of interim rule as final rule.

SUMMARY: We are adopting as a final rule, without change, an interim rule that amended the regulations to make changes to the list of areas regulated because of Karnal bunt, a fungal disease of wheat. The interim rule removed certain areas in Arizona and Texas from the list of regulated areas based on our determination that the fields in those areas met our criteria for release from regulation. That action was necessary to relieve restrictions that were no longer warranted.

EFFECTIVE DATE: The interim rule became effective on May 12, 2004.

FOR FURTHER INFORMATION CONTACT: Dr. Matthew Royer, Senior Program Adviser, Pest Detection and Management Programs, PPQ, APHIS, 4700 River Road Unit 26, Riverdale, MD 20737-1236; (301) 734-7819.

SUPPLEMENTARY INFORMATION:

Background

In an interim rule effective May 12, 2004, and published in the Federal Register on May 17, 2004 (69 FR 27821-27823, Docket No. 04-038-1), we amended the regulations in “Subpart—Karnal Bunt” (7 CFR 301.89-1 through 301.89-16) by removing certain areas in Arizona and Texas from the list of quarantined areas in § 301.89-3(e). That action, which was based on our determination that the fields in these areas met our criteria for release from regulation, relieved restrictions on the interstate movement of regulated articles from those areas that were no longer warranted.

Comments on the interim rule were required to be received on or before July 16, 2004. We received one comment by that date, from a private citizen. The commenter stated that the interstate movement of all wheat from States containing regulated areas should be prohibited. Given that the regulations require wheat grown in regulated areas to be tested prior to movement and restrict the interstate movement of wheat found to be Karnal-bunt positive, we do not believe it is necessary to prohibit the interstate movement of all wheat from States containing regulated areas in order to prevent the spread of Karnal bunt.

Therefore, for the reasons given in the interim rule and in this document, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 69 FR 27821-27823 on May 17, 2004.

Authority: 7 U.S.C. 7701-7772; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

Done in Washington, DC, this 20th day of September 2004.
Kevin Shea,
Acting Administrator, Animal and Plant Health Inspection Service.

[FR Doc. 04-21575 Filed 9-24-04; 8:45 am]

BILLING CODE 3410-34-P